DEPARTMENT OF HOMELAND SECURITY

Coast Guard

46 CFR Parts 2, 24, 30, 70, 90, 91, and 188

[Docket No. USCG-2011-0363]

RIN 1625-AB71

Seagoing Barges

AGENCY: Coast Guard, DHS.

ACTION: Direct final rule; withdrawal of correction.

SUMMARY: The Coast Guard is withdrawing its correction published on March 29, 2012, to a direct final rule published on December 14, 2011 and withdrawn on April 6, 2012. The correction was published to correct an inadvertent transposition in the titles of two tables in our amendatory instructions and to publish vessel inspection tables in their entirety so that the format of the tables would be consistent with current Federal Register format requirements. The direct final rule was withdrawn on April 6, 2012, because we received two adverse comments and the direct final rule will not become effective as scheduled. Therefore, we must also withdraw the vessel inspection tables published as part of the correction because they are not consistent with the current regulatory text.

DATES: The correction published March 29, 2012, (77 FR 18929), is withdrawn on April 11, 2012.

ADDRESSES: The docket for this withdrawn rulemaking is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2011-0363 in the “Keyword” box, and then clicking “Search.”

FOR FURTHER INFORMATION CONTACT: If you have questions about this notice, call or email Mr. Ken Smith, U.S. Coast Guard, telephone (202) 372-1413, email Ken.A.Smith@uscg.mil. If you have questions on viewing material in the docket, call Renee V. Wright, Program Manager, Docket Operations, telephone (202) 366-9826.

SUPPLEMENTARY INFORMATION:

Background

On December 14, 2011, we published a direct final rule entitled “Seagoing Barges” in the Federal Register (76 FR 77712). That rule would have redefined “seagoing barge” in 46 CFR parts 90 and 91 and would have revised 46 CFR parts 2, 24, 30, 70, 90, 91, and 188 to exempt specified seagoing barges from inspection and certification to align Coast Guard regulations with the language of the applicable statutes. On March 29, 2012, we published a correction to the direct final rule in the Federal Register (77 FR 18929) to correct the inadvertent transposition of the titles of two tables in our amendatory instructions and to publish the vessel inspection tables in their entirety so that the format of the tables would be consistent with the current Federal Register format requirements. On April 6, 2012, (77 FR 20727) we published a notice of withdrawal for the original direct final rule because we received two adverse comments. Because the direct final rule will not become effective as scheduled, we must also withdraw the vessel inspection tables republished as part of the correction because they are not consistent with the current regulatory text.

Authority

We issue this notice of withdrawal under the authority of 33 U.S.C. 494, 502, 525, 33 CFR 1.05-55, and Department of Homeland Security Delegation No. 0170.1.

Because the inspection tables republished as part of the correction are not consistent with the current regulatory text, we are withdrawing the correction.

Dated: April 11, 2012.
Kathryn A. Sinniger,
Chief, Office of Regulations and Administrative Law, U.S. Coast Guard.

[FR Doc. 2012-9047 Filed 4-11-12; 4:15 pm]

BILLING CODE 9110-04-P